DEPARTMENT OF THE INTERIOR

Bureau of Land Management

[LLNVSO0000 L58530000.ES0000; N-86601; 10-08807; MO4500008919; TAS:14X5232]

Notice of Realty Action: Recreation and Public Purposes Act Classification, Clark County, NV

AGENCY: Bureau of Land Management, Interior.

ACTION: Notice of realty action.

SUMMARY: The City of Las Vegas has filed a Recreation and Public Purposes (R&PP) Act application for lease or conveyance of approximately 7.5 acres of public land in Las Vegas, Clark County, Nevada. The City proposes to use the land for a public park. This notice classifies the land as suitable for lease or conveyance under the provisions of the R&PP Act, as amended.

DATES: Interested parties may submit written comments regarding the proposed lease or conveyance of the lands until May 10, 2010.

ADDRESSES: Mail written comments to the Bureau of Land Management (BLM) Field Manager, Las Vegas Field Office, 4701 N. Torrey Pines Drive, Las Vegas, Nevada 89130.

FOR FURTHER INFORMATION CONTACT: Beth Ransel at the above address, via e-mail at Beth_Ransel@blm.gov, or phone (702) 515-5088.

SUPPLEMENTARY INFORMATION: The BLM has examined and found suitable to be classified for lease and subsequent conveyance under the provisions of the R&PP Act, as amended (43 U.S.C. 869 et seq.), the following public land described below:

Mount Diablo Meridian, Nevada,

T. 19 S., R. 59 E.,

Sec. 1, E½NW¼SW¼SW¼, N½NW¼NE¼SW¼SW¼, and S½SW¼NE¼SW¼SW¼.

The area described contains 7.5 acres, more or less, in Clark County.

In accordance with the R&PP Act, the City of Las Vegas filed an R&PP application to develop the above described land as a public park in this rapidly growing area. Additional detailed information pertaining to this application, plan of development, and site plans are in case file N-86601, which is located in the BLM Las Vegas Field Office at the address above.

The City of Las Vegas is a political subdivision of the State of Nevada and is therefore a qualified applicant under the R&PP Act.

Subject to limitations prescribed by law and regulation, prior to conveyance, a holder of any right-of-way within the lease area may be given the opportunity to amend the right-of-way for conversion to a new term, including perpetuity, if applicable.

The land is not required for any Federal purpose. Lease or conveyance is consistent with the BLM Las Vegas Resource Management Plan, dated October 5, 1998, and would be in the public interest. The City of Las Vegas has not applied for more than the 6,400-acre limitation for recreation and public purpose uses in a year and has submitted a statement in compliance with the regulations at 43 CFR 2741.4(b).

Any lease or conveyance, if and when issued, will be subject to the provisions of the R&PP Act and applicable regulations of the Secretary of the Interior, and will contain the following reservations to the United States:

1. A right-of-way thereon for ditches or canals constructed under the authority of the United States, Act of August 30, 1890 (43 U.S.C. 945); and

2. All minerals shall be reserved to the United States, together with the right to prospect for, mine, and remove such deposits from the same under applicable law and such regulations as the Secretary of the Interior may prescribe.

Any lease or conveyance will be subject to valid existing rights, will contain any terms or conditions required by law and regulation, including, but not limited to, any terms or conditions required by 43 CFR 2741.9, and will contain an appropriate indemnification clause protecting the United States from claims arising out of the lessee's or patentee's use, occupancy, or operations on the leased/patented lands. It will also contain any other terms and conditions deemed necessary or appropriate by the authorized officer.

On publication of this notice in the Federal Register, the land described will be segregated from all other forms of appropriation under the public land laws, including the general mining laws, except for lease or conveyance under the R&PP Act, leasing under the mineral leasing laws, and disposals under the mineral material disposal laws.

Interested parties may submit comments on the suitability of the land for a public park. Comments on the classification are restricted to whether the land is physically suited for the proposal, whether the use will maximize the future use or uses of the land, whether the use is consistent with local planning and zoning, or if the use is consistent with State and Federal programs.

Interested parties may submit written comments regarding the specific use proposed in the application and plan of development, whether the BLM followed proper administrative procedures in reaching its decision to lease or convey the property under the R&PP Act, or any other factor not directly related to the suitability of the land for R&PP use.

Before including your address, phone number, e-mail address, or other personal identifying information in your comment, you should be aware that your entire comment—including your personal identifying information—may be made publicly available at any time. While you can ask us in your comment to withhold your personal identifying information from public review, we cannot guarantee that we will be able to do so.

Any adverse comments on the proposed classification, lease or conveyance will be reviewed by the BLM Nevada State Director, who may sustain, vacate, or modify this realty action and classification and issue a final determination. In the absence of any adverse comments, the decision will become effective 60 days after the date of publication of this notice in the Federal Register. The lands will not be available for lease or conveyance until after the decision becomes effective.

Beth Ransel,
Assistant Field Manager, Division of Lands, Las Vegas, Nevada.

[FR Doc. 2010-6727 Filed 3-25-10; 8:45 am]

BILLING CODE 4310-HC-P